INTERNATIONAL TRADE COMMISSION

[Inv. No. 337-TA-426]

Notice of Commission Determination Not To Review an Initial Determination Terminating the Investigation Based on Withdrawal of the Complaint

In the matter of certain spiral grill products including ducted fans and components thereof.

AGENCY: U.S. International Trade Commission.

ACTION: Notice.

SUMMARY: Notice is hereby given that the U.S. International Trade Commission has determined not to review the initial determination (ID) of the presiding administrative law judge (ALJ) terminating the above-captioned investigation on the basis of complainant's withdrawal of its complaint.

FOR FURTHER INFORMATION CONTACT: Donnette Rimmer, Esq., Office of the General Counsel, U.S. International Trade Commission, telephone 202-205-0663.

SUPPLEMENTARY INFORMATION: The Commission instituted this investigation on January, 26, 2000, based on a complaint filed by Vornado Air Circulation Systems, Inc. of Andover, Kansas (“Vornado”). 65 FR 4260.

On June 1, 2000, Vornado filed a motion to terminate the investigation without prejudice based on withdrawal of its complaint. On June 12, 2000, respondents, The Holmes Group, Inc., of Milford, Massachusetts, Holmes Products (Far East) Ltd. (Hong Kong), and Holmes Products (Far East) Ltd. (Taiwan), (collectively “Holmes”), and the Commission investigative attorney filed separate submissions in support of complainant's motion to terminate the investigation. On June 16, 2000, the presiding ALJ issued an ID granting complainant's motion.

No petitions for review of the ID were filed.

This action is taken under the authority of section 337 of the Tariff Act of 1930, 19 U.S.C. 1337, and Commission rule 210.42(h), 19 CFR 210.42(h).

Copies of the public version of the ID, and all other nonconfidential documents filed in connection with this investigation, are or will be available for inspection during official business hours (8:45 a.m. to 5:15 p.m.) in the Office of the Secretary, U.S. International Trade Commission, 500 E Street SW, Washington, DC 20436, telephone 202-205-2000. Hearing-impaired persons are advised that information on the matter can be obtained by contacting the Commission's TDD terminal on 202-205-1810. General information concerning the Commission may also be obtained by accessing its Internet server (http://www.usitc.gov).

By order of the Commission.
Dated: July 20, 2000.
Donna R. Koehnke,
Secretary.

[FR Doc. 00-18923 Filed 7-25-00; 8:45 am]

BILLING CODE 7020-02-P